FEDERAL ELECTION COMMISSION

Sunshine Act Meeting

AGENCY: Federal Election Commission.

Federal Register CITATION OF PREVIOUS ANNOUNCEMENT: 78 FR 57632 (September 19, 2013).

DATE & TIME: Tuesday, September 24, 2013 at 10:00 a.m.

PLACE: 999 E Street NW., Washington, DC.

STATUS: This meeting will be closed to the public.

CHANGES IN THE MEETING: The September 24, 2013 meeting will be continued on Thursday, September 26, 2013.

PERSON TO CONTACT FOR INFORMATION: Judith Ingram, Press Officer, Telephone: (202) 694-1220.

Shelley E. Garr,
Deputy Secretary of the Commission.

[FR Doc. 2013-23414 Filed 9-23-13; 11:15 am]

BILLING CODE 6715-01-P